GENERAL SERVICES ADMINISTRATION

[OMB Control No. 3090-0112]

Proposed Information Collection; Federal Management Regulation; GSA Form 3040, State Agency Monthly Donation Report of Surplus Property

AGENCY: Federal Supply Service, General Services Administration(GSA).

ACTION: Notice of request for comments regarding a renewal to an existing OMB clearance.

SUMMARY: Under the provisions of the Paperwork Reduction Act of 1995 (44 U.S.C. Chapter 35), the General Services Administration has submitted to the Office of Management and Budget (OMB) a request to review and approve a renewal of a currently approved information collection requirement regarding GSA Form 3040, State Agency Monthly Donation Report of Surplus Property. A request for public comments was published at 70 FR 12687, March 15, 2005. No comments were received.

Public comments are particularly invited on: Whether this collection of information is necessary and whether it will have practical utility; whether our estimate of the public burden of this collection of information is accurate, and based on valid assumptions and methodology; ways to enhance the quality, utility, and clarity of the information to be collected.

DATES: Submit comments on or before: July 8, 2005.

FOR FURTHER INFORMATION CONTACT: Denise Thomas, Federal Supply Service, GSA at telephone (703) 308-0742 or via e-mail to denise.thomas@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (VIR), General Services Administration, Room 4035, 1800 F Street, NW., Washington, DC 20405. Please cite OMB Control No. 3090-0112, GSA Form 3040, State Agency Monthly Donation Report of Surplus Personal Property, in all correspondence.

SUPPLEMENTARY INFORMATION:

A. Purpose

This report complies with Public Law 94-519, which requires annual reports of donations of personal property to public agencies for use in carrying out such purposes as conservation, economic development, education, parks and recreation, public health, and public safety.

B. Annual Reporting Burden

Respondents: 55.

Responses Per Respondent: 4.

Total Responses: 220.

Hours Per Response: 1.5.

Total Burden Hours: 330.

Obtaining Copies of Proposals: Requesters may obtain a copy of the information collection documents from the General Services Administration, Regulatory Secretariat (VIR), 1800 F Street, NW., Room 4035, Washington, DC 20405, telephone (202) 208-7312. Please cite OMB Control No. 3090-0112, GSA Form 3040, State Agency Monthly Donation Report of Surplus Personal Property, in all correspondence.

Dated: May 27, 2005.
Daryle M. Seckar,
Acting Chief Information Officer.

[FR Doc. 05-11359 Filed 6-7-05; 8:45 am]

BILLING CODE 6820-YT-S